ENVIRONMENTAL PROTECTION AGENCY

[OPPTS-00294; FRL-6591-3]

Forum on State and Tribal Toxics Action (FOSTTA); June Meeting Planned for Work Groups

AGENCY: Environmental Protection Agency (EPA).

ACTION: Notice of public meeting.

SUMMARY: The Tribal Affairs Work Group and the Environmental Justice Work Group will meet during the Forum on State and Tribal Toxics Action (FOSTTA) session in June. The three FOSTTA projects: Chemical Management, Pollution Prevention, and Toxics Release Inventory will not meet at this time. These projects met in October and March of this fiscal year. The next meeting of the entire FOSTTA membership will be in October 2000. OPPT will issue a Federal Register notice in late September to announce the details of the October meeting.

DATES: The Tribal Affairs Work Group and the Environmental Justice Work Group will meet concurrently on June 22, 2000, from 9 a.m. to 5 p.m. and on June 23, 2000, from 9 a.m. to noon.

ADDRESSES: The meetings will be held at the Holiday Inn Old Town, 480 King Street, Alexandria, VA.

FOR FURTHER INFORMATION CONTACT: George Hagevik, National Conference of State Legislatures, 1560 Broadway, Suite 700, Denver, CO 80202; telephone: (303) 839-0273; fax: (303) 863-8003; e-mail: george.hagevik@ncsl.org or Darlene Harrod, Liaison Branch, Environmental Assistance Division, Office of Pollution Prevention and Toxics, Environmental Protection Agency, 1200 Pennsylvania Ave., NW., Washington, DC; telephone: (202) 260-6904; fax: (202) 260-2219; e-mail: harrod.darlene@epa.gov.

SUPPLEMENTARY INFORMATION:

I. Does this Action Apply to Me?

This action is directed to the public in general. All parties interested in FOSTTA and hearing more about the perspectives of the States and Tribes on EPA programs and the information exchange regarding important issues related to human health and environmental exposure to toxics are invited and encouraged to attend. The public is encouraged to attend the proceedings as observers. However, in the interest of time and efficiency, the meetings are structured to provide maximum opportunity for State, Tribal, and EPA participants to discuss items on the predetermined agenda. At the discretion of the chair of the work group, an effort will be made to accommodate participation by observers attending the proceedings.

II. How Can I Get Additional Information, Including Copies of this Document and Other Related Documents?

1. Electronically. You may obtain electronic copies of minutes, and certain other related documents that might be available electronically, from the National Conference of State Legislatures (NCSL) Web site at http://www.ncsl.org/programs/esnr/fostta/fostta.htm. To access this document on the EPA Internet Home Page go to http://www.epa.gov and select “Laws and Regulations” and then look up the entry for this document under the “Federal Register Environmental Documents.” You can also go directly to the Federal Register listings at http://www.epa.gov/fedrgstr/FOSTTA.

2. Facsimile. Notify the contacts listed above if you would like any of the documents sent to you via fax.

III. Background

The NCSL and the EPA co-sponsor the meetings. As part of a co-sponsorship agreement, NCSL facilitates ongoing efforts of the States and Tribes to identify, discuss, and address toxics-related issues, and to continue the dialogue on how Federal environmental programs can best be implemented.

FOSTTA, a group of State and Tribal toxics environmental managers, is intended to foster the exchange of toxics-related program and enforcement information among the States, Tribes, EPA's Office of Prevention, Pesticides and Toxic Substances (OPPTS), and the Office of Enforcement and Compliance Assurance (OECA). In addition to the two work groups, FOSTTA currently is composed of the Coordinating Committee and three issue-specific projects: the Chemical Management, Pollution Prevention, and Toxics Release Inventory.

The Tribal Affairs Work Group will focus on issues of particular interest to the Tribal representatives as well as on OPPT orientation and organizational matters. FOSTTA will also host a stakeholder meeting on logistical issues associated with the implementation of Title VI of the Civil Rights Act in the States.

IV. Purpose of Meeting

Tentative agenda items identified by NCSL, the States, and the Tribes for the Tribal Affairs Work Group meeting:

1. AIEO's Baseline Assessment project.

2. OECA's American Indian Land Environmental Support project.

3. Subsistence Food Assessment project.

4. OPPT 101.

The tentative agenda item identified for the Environmental Justice Work Group meeting:

Logistical issues associated with the implementation of Title VI of the Civil Rights Act in the States.

List of Subjects

Environmental protection.

Dated: June 8, 2000.
Clarence O. Lewis, III,
Acting Director, Environmental Assistance Division, Office of Pollution Prevention and Toxics.

[FR Doc. 00-15163 Filed 6-12-00; 2:22 pm]

BILLING CODE 6560-50-F